COMMITTEE FOR PURCHASE FROM PEOPLE WHO ARE BLIND OR SEVERELY DISABLED

Procurement List; Proposed Additions and Deletions

AGENCY: Committee for Purchase From People Who Are Blind or Severely Disabled.

ACTION: Proposed additions to and deletions from procurement list.

SUMMARY: The Committee has received proposals to add to the Procurement List a commodity and services to be furnished by nonprofit agencies employing persons who are blind or have other severe disabilities, and to delete commodities previously furnished by such agencies.

DATES: Comments must be received on or before November 13, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot, (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, all entities of the Federal Government (except as otherwise indicated) will be required to procure the commodity and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodity and services to the Government.

2. The action will not have a severe economic impact on current contractors for the commodity or services.

3. The action will result in authorizing small entities to furnish the commodity and services to the Government.

4. There are no known regulatory alternatives which would accomplish the objectives of the Javits-Wagner-O'Day Act (41 U.S.C. 46-48c) in connection with the commodity and services proposed for addition to the Procurement List. Comments on this certification are invited. Commenters should identify the statement(s) underlying the certification on which they are providing additional information. The following commodity and services have been proposed for addition to Procurement List for production by the nonprofit agencies listed:

Commodity

Vegetable Oil

8945-00-NSH-0001

(Additional 5% of Government Requirement)

NPA: Advocacy and Resources Corp. (ARC), Cookeville, Tennessee

Services

Laundry Service: Stratton Medical Center, 113 Holland Avenue, Albany, NY

NPA: Uncle Sam's House, Inc., Schenectady, New York

Administrative Services: NASA Goddard Space Flight Center, Greenbelt, MD

NPA: ServiceSource, Alexandria, Virginia

Laundry Service: Anniston Army Depot, Anniston, AL

NPA: Opportunity Center Easter Seal Rehabilitation Facility, Anniston, Alabama

Deletions

I certify that the following action will not have a significant impact on a substantial number of small entities. The major factors considered for this certification were:

1. The action will not result in any additional reporting, recordkeeping or other compliance requirements for small entities.

2. This action will not have a severe economic impact on future contractors for the commodities.

3. The action will result in authorizing small entities to furnish the commodity and services to the Government.

4. There are no known regulatory alternatives which would accomplish the objectives of the Javits-Wagner-O'Day Act (41 U.S.C. 46-48c) in connection with the commodity and services proposed for deletion from the Procurement List.

The following commodities have been proposed for deletion from the Procurement List:

Pallet, Wood

3990-00-X77-1721

Pallet, Wood

3990-00-NSH-0005

Louis R. Bartalot,
Deputy Director (Operations).

[FR Doc. 00-26361 Filed 10-12-00; 8:45 am]

BILLING CODE 6353-01-P